DEPARTMENT OF TRANSPORTATION

Federal Aviation Administration

14 CFR Part 39

[Docket No. FAA-2006-24522; Directorate Identifier 2006-NM-002-AD; Amendment 39-14680; AD 2006-14-09]

RIN 2120-AA64

Airworthiness Directives; Airbus Model A330-200 and -300, and A340-200 and -300 Series Airplanes

AGENCY: Federal Aviation Administration (FAA), Department of Transportation (DOT).

ACTION: Final rule.

SUMMARY: The FAA is adopting a new airworthiness directive (AD) for certain Airbus Model A330-200 and -300, and A340-200 and -300 series airplanes. This AD requires modifying certain rotary actuator assemblies for the leading edge slat. This AD results from a leak found at the seal of the torque limiter output shaft of the Type A rotary actuator of leading edge slat No. 1. We are issuing this AD to prevent a decrease in the torque limiter function, which could result in degradation and damage to the attachment bolts of the leading edge slat, loss of the slat, and consequent reduced control of the airplane.

DATES: This AD becomes effective August 21, 2006.

The Director of the Federal Register approved the incorporation by reference of certain publications listed in the AD as of August 21, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for the service information identified in this AD.

FOR FURTHER INFORMATION CONTACT: Tim Backman, Aerospace Engineer, International Branch, ANM-116, Transport Airplane Directorate, FAA, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A330-200 and -300, and A340-200 and -300 series airplanes. That NPRM was published in the Federal Register on April 21, 2006 (71 FR 20599). That NPRM proposed to require modifying certain rotary actuator assemblies for the leading edge slat.

Comments

We provided the public the opportunity to participate in the development of this AD. We have considered the single comment received.

Request To Revise the Applicability

Airbus requests that Model A330-302 and -303 airplanes be included in the applicability of paragraph (c) of the NPRM. Airbus states that those airplanes are in the process of being type certificated in the U.S.

We agree. We have determined that Model A330-302 and -303 airplanes are subject to the identified unsafe condition of this AD. Therefore, we have revised the applicability of paragraph (c) of this AD to include those airplanes to ensure that the identified unsafe condition is addressed if any of those affected airplanes are imported and placed on the U.S. Register in the future.

Conclusion

We have carefully reviewed the available data, including the comment received, and determined that air safety and the public interest require adopting the AD with the change described previously. This change will neither increase the economic burden on any operator nor increase the scope of the AD.

Costs of Compliance

This AD affects about 9 airplanes of U.S. registry. The modification (including operational test) takes about 4 work hours per airplane, at an average labor rate of $80 per work hour. Required parts are free of charge. Based on these figures, the estimated cost of the AD for U.S. operators is $2,880, or $320 per airplane.

Currently, there are no affected Model A330-302 and -303 airplanes on the U.S. Register. However, if an affected airplane is imported and placed on the U.S. Register in the future, it would be subject to the same per-airplane cost specified above.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-14-09 Airbus: Amendment 39-14680. Docket No. FAA-2006-24522; Directorate Identifier 2006-NM-002-AD.

Effective Date

(a) This AD becomes effective August 21, 2006.

Affected ADs

(b) None.

Applicability

(c) This AD applies to Airbus Model A330-201, 202, -203, -223, and -243; A330-301, -302, -303, -321, -322, -323, -341, -342, and -343; A340-211, -212, and -213; and A340-311, -312, and -313 airplanes, certificated in any category; except airplanes on which Airbus Modification 50138 was done during production.

Unsafe Condition

(d) This AD results from a leak found at the seal of the torque limiter output shaft of the Type A rotary actuator of leading edge slat No. 1. We are issuing this AD to prevent a decrease in the torque limiter function, which could result in degradation and damage to the attachment bolts of the leading edge slat, loss of the slat, and consequent reduced control of the airplane.

Compliance

(e) You are responsible for having the actions required by this AD performed within the compliance times specified, unless the actions have already been done.

Modification

(f) Within 38 months after the effective date of this AD: Modify any Type A rotary actuator assembly for the leading edge slat having part number (P/N) 954A0000-01 or 954A0000-02, or P/N 954B0000-01, as applicable, by doing all the applicable actions in accordance with the Accomplishment Instructions of Airbus Service Bulletin A330-27-3100, Revision 01, dated May 23, 2005; or A340-27-4106, Revision 01, dated May 23, 2005; as applicable.

(g) Modification of any Type A rotary actuator assembly for the leading edge slat having P/N 954B0000-01, in accordance with Airbus Service Bulletin A330-27-3105 or A340-27-4110, both Revision 02, both dated October 10, 2005; as applicable; is acceptable for compliance with the corresponding modification specified in paragraph (f) of this AD.

Note 1: Airbus Service Bulletins A330-27-3100 and A340-27-4106 refer to Goodrich Actuation Systems Service Bulletin 954-27-M954-07, Revision 2, dated August 9, 2004; and Airbus Service Bulletins A330-27-3105 and A340-27-4110 refer to Goodrich Actuation Systems Service Bulletin 954-27-M954-06, Revision 2, dated May 20, 2004; as additional sources of service information for modifying the rotary actuator assembly for the leading edge slat.

Parts Installation

(h) As of the effective date of this AD, no Type A rotary actuator assembly for the leading edge slat having P/N 954A0000-01, -02, or 954B0000-01 may be installed unless the part has been modified in accordance with the actions required by paragraph (f) or (g) of this AD, as applicable.

Actions Accomplished Previously

(i) Modifications done before the effective date of this AD in accordance with Airbus Service Bulletins A330-27-3100, dated October 30, 2002; A330-27-3105, dated October 30, 2002, or Revision 01, dated March 27, 2003; A340-27-4106, dated October 30, 2002; or A340-27-4110, dated October 30, 2002, or Revision 01, dated March 27, 2003; as applicable; are acceptable for compliance with the corresponding requirements of paragraphs (f) and (g) of this AD, as applicable.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) French airworthiness directives F-2005-067 and F-2005-068, both dated April 27, 2005, also address the subject of this AD.

Material Incorporated by Reference

(l) You must use the applicable Airbus service bulletin identified in Table 1 of this AD to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 1.—Material Incorporated by Reference
Airbus Service Bulletin | Revision level | Date
A330-27-3100 | 01 | May 23, 2005.
A330-27-3105 | 02 | Oct. 10, 2005.
A340-27-4106 | 01 | May 23, 2005.
A340-27-4110 | 02 | Oct. 10, 2005.

Issued in Renton, Washington, on July 6, 2006.
Ali Bahrami,
Manager, Transport Airplane Directorate, Aircraft Certification Service.

[FR Doc. 06-6180 Filed 7-14-06; 8:45 am]

BILLING CODE 4910-13-P